DEPARTMENT OF COMMERCE

Foreign-Trade Zones Board

[B-73-2013]

Foreign-Trade Zone (FTZ) 41—Milwaukee, Wisconsin, Notification of Proposed Production Activity, Broan-NuTone LLC (Home Ventilation Products and Heaters), Hartford, Wisconsin

Broan-NuTone, LLC (Broan-NuTone) submitted a notification of proposed production activity to the FTZ Board for its facility in Hartford, Wisconsin within Subzone 41L. The notification conforming to the requirements of the regulations of the FTZ Board (15 CFR 400.22) was received on June 26, 2013.

The Broan-NuTone facility is used for the manufacturing and distribution of residential range hoods, subassemblies or component parts for centrifugal blowers, ceiling exhaust fans, wall or ceiling heaters, blower assemblies and roof and wall caps. Pursuant to 15 CFR 400.14(b), FTZ activity would be limited to the specific foreign-status materials and components and specific finished products described in the submitted notification (as described below) and subsequently authorized by the FTZ Board.

Production under FTZ procedures could exempt Broan-NuTone from customs duty payments on the foreign status components used in export production. On its domestic sales, Broan-NuTone would be able to choose the duty rates during customs entry procedures that apply to range hoods/down drafts, blower assemblies, ceiling exhaust fans for permanent installation, roof/wall caps and heaters (floor, wall or ceiling) (duty rate ranges from free to 4.7%) for the foreign status inputs noted below. Customs duties also could possibly be deferred or reduced on foreign status production equipment.

The components and materials sourced from abroad include: polymer paint, label materials, logo materials, packaging materials, plastic packing, plastic bags, plastic trim pieces and switch covers, rubber spacers, plastic items, rubber gaskets, gaskets, rubber washers, rubber stoppers, rubber grommets, other rubber articles, cartons, bags, corrugated boxes with fillers, instruction sheets, range hood filters, bathroom mirrors, filters for whole house ventilation systems, cold-rolled steel for manufacturing, flat-rolled steel for manufacturing, plated wire, housing for recessed range hood, wire mesh for bird screens, roof/wall caps, screws, fasteners, stainless steel screws, nuts, washers, rivet housing assembly, damper or filter springs for grille, stainless steel kitchen backsplashes, brackets, aluminum stainless for manufacturing, zinc screws, parts of hinges, hinge cabinets, mounting brackets, brackets, metal flex ducts, ceiling exhaust or paddle fans, wall or ceiling exhaust fans, residential range hood canopies, parts used in ventilation, filters, parts of filters, central valve dampers, roller down drafts, electric motors for exhaust/ventilation, electric motors for downdraft range hoods, parts used on electric motors, light ballasts, transformers, magnets for range hoods, portable heaters and fans, heating resistors, parts for heaters, capacitors, ceramic capacitors, resistors, fuses, circuit breakers for exhaust/heater units, relays, motor starters, wall switches, various switch types, lamp sockets, other electrical parts, switch parts, male/female connectors, terminals for switches, other apparatus for switches, printed circuit boards, membrane covers for switches, halogen light bulbs, light bulbs, fluorescent light bulbs, light housing for range hoods, light diodes, coaxial cables, wire harnesses, cable wires, fuse holders, snap bushing (damper), air pressure switch valves, thermostat/heat sensor for ventilation, heat regulator/dehumidistat, timer switch assembly, timer control switch assembly, metal housing medicine cabinets, wood trimmed medicine cabinets, plastic housing medicine cabinets, wood components for medicine cabinets, metal components for cabinets, light kits for fans with base metal, non-base metal light fittings, base metal parts for light kits, parts for light kits, glass globes and other parts of lamps (finials) (duty rate ranges from free to 12%).

Public comment is invited from interested parties. Submissions shall be addressed to the Board's Executive Secretary at the address below. The closing period for their receipt is August 27, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Elizabeth Whiteman at Elizabeth.Whiteman@trade.gov or (202) 482-0473.

Dated: July 11, 2013.
Andrew McGilvray,
Executive Secretary.

[FR Doc. 2013-17261 Filed 7-17-13; 8:45 am]

BILLING CODE 3510-DS-P